DEPARTMENT OF AGRICULTURE

National Institute of Food and Agriculture

7 CFR Part 3430

RIN 0524-AA67

Agriculture and Food Research Initiative Competitive Federal Grants Program—General Administration Provisions

AGENCY: National Institute of Food and Agriculture, USDA.

ACTION: Final rule with request for comments.

SUMMARY: The National Institute of Food and Agriculture (NIFA) is publishing as a final rule a revision to the general administrative guidelines applicable to the Agriculture and Food Research Initiative (AFRI) competitive grant program. The purpose of this final rule is to implement the Agriculture and Food Research Initiative commodity board provision added by section 7404 of the Agricultural Act of 2014 making it necessary to modify the AFRI regulations.

DATES: This final rule becomes effective on August 26, 2016. NIFA is requesting comments for 30 days until September 26, 2016.

ADDRESSES: You may submit comments, identified by Agriculture and Food Research Initiative Competitive Federal Grants Program—General Administration Provisions, by any of the following methods:

Federal eRulemaking Portal: http://www.regulations.gov. Follow the instructions for submitting comments.

Email: commodityboards@nifa.usda.gov. Include Agriculture and Food Research Initiative Competitive Federal Grants Program—General Administration Provisions in the subject line of the message.

Instructions: All comments received must include the agency name and reference to Agriculture and Food Research Initiative Competitive Federal Grants Program—General Administration Provisions. All comments received will be posted to http://www.regulations.gov, including any personal information provided.

FOR FURTHER INFORMATION CONTACT: Maria Koszalka, Division Director, Policy and Oversight Division, Phone: 202-401-4325, Email: maria.koszalka@nifa.usda.gov.

SUPPLEMENTARY INFORMATION:

I. Background and Summary

Authority

This rulemaking is authorized by section 2(b) of the Competitive, Special, and Faculties Research Grant Act 7 U.S.C. 450i(b).

Organization of 7 CFR Part 3430

A primary function of NIFA is the fair, effective, and efficient administration of Federal assistance programs implementing agricultural research, education, and extension programs. The awards made under the above authority are subject to the NIFA assistance regulations at 7 CFR part 3430, Competitive and Noncompetitive Non-formula Federal Assistance Programs—General Award Administrative Provisions. NIFA's development and publication of this regulation for its non-formula Federal assistance programs enhances its accountability and standardizes procedures across the Federal assistance programs it administers while providing transparency to the public. NIFA published 7 CFR part 3430 with subparts A through F as a final rule on September 4, 2009 [74 FR 45736-45752]. These regulations apply to all Federal assistance programs administered by NIFA except for the formula grant programs identified in 7 CFR 3430.1(f), the Small Business Innovation Research programs with implementing regulations at 7 CFR part 3403, and the Veterinary Medicine Loan Repayment Program (VMLRP), with implementing regulations at 7 CFR part 3431.

NIFA organized the regulation as follows: Subparts A through E provide administrative provisions for all competitive and noncompetitive non-formula Federal assistance programs. Subparts F and thereafter apply to specific NIFA programs.

NIFA is, to the extent practical, using the following subpart template for each program authority: (1) Applicability of regulations, (2) purpose, (3) definitions (those in addition to or different from § 3430.2), (4) eligibility, (5) project types and priorities, (6) funding restrictions, (7) matching requirements, and (8) duration of grant. Subparts F and thereafter contain the above seven components in this order. Additional sections may be added for a specific program if there are additional requirements or a need for additional rules for the program (e.g., additional reporting requirements).

Through this rulemaking, NIFA is making minor additions to Subpart G—Agriculture and Food Research Initiative (AFRI) in order to implement the AFRI commodity board provision from section 7404 of the Agricultural Act of 2014 (Pub. L. 113-79).

Subpart G of 7 CFR 3430

Subpart G contains the administrative provisions for the Agriculture and Food Research Initiative (AFRI). The purpose of AFRI is to make competitive grants for fundamental and applied research, extension, and education to address food and agricultural sciences, as defined under section 1404 of the National Agriculture Research, Extension, and Teaching Policy Act of 1977, as amended (7 U.S.C. 3103).

II. Revisions Included in the Final Rule

Subpart G

Section 7404 of the Agricultural Act of 2014 amended the general administration, special considerations, and eligible entities subsections for the Agriculture and Food Research Initiative (AFRI) program, and added a special contributions requirement making it necessary to modify the program's administrative provisions.

With this rule, NIFA makes clear that it will solicit funding ideas under this subpart from statutorily defined national and state commodity boards for research topics that the commodity boards are willing to co-fund equally with NIFA under the AFRI competitive grant program. If the ideas are evaluated and found to be consistent with the AFRI statutory priorities and priorities noted in the President's budget request related to NIFA, the topics will be incorporated in existing program areas in the relevant AFRI Request for Applications (RFA(s)). Researchers wishing to submit a proposal on a topic suggested by a commodity board will be required to obtain a letter of support from the co-funding commodity board. The applications submitted in response to a commodity board co-funded topic will compete against all proposals submitted in the same RFA program area. Supported applications will receive no preference regarding the evaluation of their scientific merit. Letters of commodity board support will be used by NIFA solely to determine that the application fits within the commodity board co-funded topic and the commodity board is willing to co-fund that application, if it is evaluated by the review panel as being meritorious and recommended for award.

III. Administrative Requirements for the Rulemaking

While the Administrative Procedure Act (APA), 5 U.S.C. 553(a)(2), specifically exempts rules that involve public property, loans, grants, benefits, or contracts from notice-and-comment requirements, NIFA is issuing this rule as final with request for comments. Accordingly, NIFA is allowing 30 days for the submission of comments.

If upon consideration of the comments received in response to this notice NIFA decides to amend the AFRI final rule, NIFA will issue a subsequent final rule that includes an explanation of any changes made in response to the comments.

Executive Order 12866 and Executive Order 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant.

Regulatory Flexibility Act of 1980

This final rule has been reviewed in accordance with the Regulatory Flexibility Act of 1980, as amended by the Small Business Regulatory Enforcement Fairness Act of 1996, (5 U.S.C. 601-612). The Director certifies that this final regulation will not have a significant economic impact on a substantial number of small entities. This final regulation will affect institutions of higher education receiving Federal funds under this program. The U.S. Small Business Administration Size Standards define institutions as “small entities” if they are for-profit or nonprofit institutions with total annual revenue below $5,000,000 or if they are institutions controlled by governmental entities with populations below 50,000. The rule does not involve regulatory and informational requirements regarding businesses, organizations, and governmental jurisdictions subject to regulation.

Paperwork Reduction Act (PRA)

The Department certifies that this final rule has been assessed in accordance with the requirements of the Paperwork Reduction Act, 44 U.S.C. 3501 et seq. (PRA). The Department concludes that this final rule does not impose any new information requirements or increase the burden hours. In addition to the SF-424 form families (i.e., Research and Related and Mandatory) and the SF-425 Federal Financial Report (FFR) No. 0348-0061, NIFA has three currently approved OMB information collections associated with this rulemaking: OMB Information Collection No. 0524-0042, NIFA REEport; No. 0524-0041, NIFA Application Review Process; and No. 0524-0026, Organizational Information.

Catalog of Federal Domestic Assistance

This final regulation applies to the following Federal financial assistance programs administered by NIFA including CFDA No. 10.310, Agriculture and Food Research Initiative (AFRI).

Unfunded Mandates Reform Act of 1995 and Executive Order 13132

The Department has reviewed this final rule in accordance with the requirements of Executive Order No. 13132 and the Unfunded Mandates Reform Act of 1995, 2 U.S.C. 1501 et seq., and has found no potential or substantial direct effects on the States, on the relationship between the national government and the States, or on the distribution of power and responsibilities among the various levels of government. As there is no Federal mandate contained herein that could result in increased expenditures by State, local, or tribal governments, or by the private sector, the Department has not prepared a budgetary impact statement.

Clarity of This Regulation

Executive Order 12866 and the President's Memorandum of June 1, 1998, require each agency to write all rules in plain language. The Department invites comments on how to make this final rule easier to understand.

List of Subjects in 7 CFR Part 3430

Administrative practice and procedure, Agricultural research, Education, Extension, Federal assistance.

Accordingly, the Department of Agriculture, National Institute of Food and Agriculture, adopts the final rule amending 7 CFR part 3430 which was published at 75 FR 54759 on September 9, 2010, and amends 7 CFR part 3430 as set forth below:

PART 3430—COMPETITIVE AND NONCOMPETITIVE NON-FORMULA FEDERAL ASSISTANCE PROGRAMS—GENERAL AWARD ADMINISTRATIVE PROVISIONS

1. The authority citation for part 3430 continues to read as follows:

Authority: 7 U.S.C. 3316; Pub. L. 106-107 (31 U.S.C. 6101 note).

Subpart G—Agriculture and Food Research Initiative

2. Add § 3430.313 to read as follows:

§ 3430.313 Inclusion of research topics proposed by national and state commodity boards in request for applications.

NIFA will solicit funding ideas under this subpart from statutorily defined national and state commodity boards for research topics that the commodity boards are willing to co-fund equally with NIFA under the AFRI competitive grant program. If the ideas are evaluated and found to be consistent with the AFRI statutory priorities and priorities noted in the President's budget request related to NIFA, the topics will be incorporated in existing program areas in the relevant AFRI Request for Applications (RFA(s)). Researchers wishing to submit a proposal on a topic suggested by a commodity board will be required to obtain a letter of support from the co-funding commodity board. The applications submitted in response to a commodity board co-funded topic will compete against all proposals submitted in the same RFA program area. Supported applications will receive no preference regarding the evaluation of their scientific merit. Letters of commodity board support will be used by NIFA solely to determine that the application fits within the commodity board co-funded topic and the commodity board is willing to co-fund that application, if it is evaluated by the review panel as being meritorious and recommended for award.

Done at Washington, DC, this 29 day of July, 2016.
Robert E. Holland,
Associate Director for Operations, National Institute of Food and Agriculture.

[FR Doc. 2016-18422 Filed 8-25-16; 8:45 am]

BILLING CODE 3410-22-P